DEPARTMENT OF THE INTERIOR

National Park Service

Notice of Proposed National Natural Landmark Designation for the Irvine Ranch Land Reserve, CA

AGENCY: National Park Service, Interior.

ACTION: Notice of proposed National Natural Landmark designation.

SUMMARY: The National Park Service has evaluated and determined that the Irvine Ranch Land Reserve, located forty-five miles south of downtown Los Angeles, in Orange County, California appears to meet the criteria for national significance and proposes to recommend the site for designation as a National Natural Landmark. The public is invited to comment on this recommendation. The proposal will be considered by the National Park System Advisory Board at a meeting to be held on June 8, 2006 at Zion National Park, in the Majestic View Lodge, 2400 Zion Park Blvd., Springdale, Utah.

DATES: Written comments will be accepted until May 30, 2006.

ADDRESSES: Written comments should be sent to Steve Gibbons, National Natural Landmarks Coordinator, North Cascades National Park, 810 State Route 20, Sedro Woolley, Washington 98284, or to his Internet address: Steve_Gibbons@nps.gov.

FOR FURTHER INFORMATION CONTACT: Steve Gibbons at 360-856-5700, extension 306.

SUPPLEMENTARY INFORMATION: The Irvine Ranch Land Reserve represents significant biological resources of Mediterranean shrublands, including extensive areas of chaparral and coastal sage scrub associations. These chaparral and coastal sage scrub areas present one of the largest extant areas of this association remaining in the South Pacific Border Province. It is the presence of these large and relative undisturbed ecosystems and their inherent biological diversity that provide the uniqueness of this area. In commensurate with its biological significance the Irvine Ranch Land Reserve geologically represents a remarkably unique, long time-range stratigraphic succession that shows the linkage between tectonic framework, provenances, sedimentology, paleoenvironments, paleontology, paleoclimate, landscape evolution and geologic history. In this regard it is not only outstanding, but represents one of the most critical time intervals and locations in the evolution of the South Pacific Border Province.

Information on the National Natural Landmarks Program can be found in 36 CFR Part 62 or on the Internet at http://www.nature.nps.gov/nnl.

Dated: March 28, 2006.
Fran Mainella,
Director, National Park Service.

[FR Doc. 06-3161 Filed 3-30-06; 8:45 am]

BILLING CODE 4312-HJ-P